DEPARTMENT OF HEALTH AND HUMAN SERVICES

Centers for Medicare & Medicaid Services

[Document Identifier: CMS-10462]

Agency Information Collection Activities: Submission for OMB Review; Comment Request

ACTION: Notice.

SUMMARY: The Centers for Medicare & Medicaid Services (CMS) is announcing an opportunity for the public to comment on CMS' intention to collect information from the public. Under the Paperwork Reduction Act of 1995 (PRA), federal agencies are required to publish notice in the Federal Register concerning each proposed collection of information, including each proposed extension or reinstatement of an existing collection of information, and to allow a second opportunity for public comment on the notice. Interested persons are invited to send comments regarding the burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

DATES: Comments on the collection(s) of information must be received by the OMB desk officer by April 24, 2014.

ADDRESSES: When commenting on the proposed information collections, please reference the document identifier or OMB control number. To be assured consideration, comments and recommendations must be received by the OMB desk officer via one of the following transmissions: OMB, Office of Information and Regulatory Affairs, Attention: CMS Desk Officer, Fax Number: (202) 395-5806 OR Email: OIRA_submission@omb.eop.gov.

To obtain copies of a supporting statement and any related forms for the proposed collection(s) summarized in this notice, you may make your request using one of following:

1. Access CMS' Web site address at http://www.cms.hhs.gov/PaperworkReductionActof1995.

2. Email your request, including your address, phone number, OMB number, and CMS document identifier, to Paperwork@cms.hhs.gov.

3. Call the Reports Clearance Office at (410) 786-1326.

FOR FURTHER INFORMATION CONTACT: Reports Clearance Office at (410) 786-1326

SUPPLEMENTARY INFORMATION: Under the Paperwork Reduction Act of 1995 (PRA) (44 U.S.C. 3501-3520), federal agencies must obtain approval from the Office of Management and Budget (OMB) for each collection of information they conduct or sponsor. The term “collection of information” is defined in 44 U.S.C. 3502(3) and 5 CFR 1320.3(c) and includes agency requests or requirements that members of the public submit reports, keep records, or provide information to a third party. Section 3506(c)(2)(A) of the PRA (44 U.S.C. 3506(c)(2)(A)) requires federal agencies to publish a 30-day notice in the Federal Register concerning each proposed collection of information, including each proposed extension or reinstatement of an existing collection of information, before submitting the collection to OMB for approval. To comply with this requirement, CMS is publishing this notice that summarizes the following proposed collection(s) of information for public comment:

1. Type of Information Collection Request: New collection (Request for a new OMB control number); Title of Information Collection: Community First Choice Option Evaluation; Use: This project is an evaluation of the implementation and progress of the Community First Choice (CFC) Option. The results of the study will be included in the final Report to Congress, to be delivered by the Secretary of Health and Human Services in 2015. The project is designed to assist us along with the Congress in our understanding of: States' CFC implementation plans, the effectiveness of the CFC Option on individuals receiving home- and community-based attendant care, and States' spending on long-term services and supports.

Researchers will request data from States approved for CFC via a data from and semi-structured interviews. Information obtained will be used to better understand CFC program design, the targeted patient population, and intended outcomes. At this time, we have only approved California's program. To provide comparative information to the Secretary, researchers will also collect data from States that have decided not to pursue the CFC option. Data will be analyzed and developed into a report to Congress which will evaluate the effectiveness of the CFC option, the program's impact on participants' physical and emotional health, and a comparative analysis of the costs of community-based services and those provided in institutional settings. Form Number: CMS-10462 (OCN: 0938-New); Frequency: Once; Affected Public: Individuals and households, Private sector—Business or other for-profits and Not-for-profit institutions, and State, Local, or Tribal Governments; Number of Respondents: 108; Total Annual Responses: 126; Total Annual Hours: 225. (For policy questions regarding this collection contact Elizabeth Garbarczyk at 410-786-0426).

Dated: March 19, 2014.
Martique Jones,
Deputy Director, Regulations Development Group, Office of Strategic Operations and Regulatory Affairs.

[FR Doc. 2014-06518 Filed 3-24-14; 8:45 am]

BILLING CODE 4120-01-P